DEPARTMENT OF COMMERCE

International Trade Administration

[A-570-168, C-570-169]

Certain Alkyl Phosphate Esters From the People's Republic of China: Antidumping and Countervailing Duty Orders; Correction

AGENCY: Enforcement and Compliance, International Trade Administration, Department of Commerce.

SUMMARY: The U.S. Department of Commerce (Commerce) published a notice in the Federal Register on June 11, 2025, in which Commerce announced the antidumping and countervailing duty orders on certain alkyl phosphate esters from the People's Republic of China (China). This notice corrects the ending date of the antidumping duty provisional measures.

FOR FURTHER INFORMATION CONTACT: Dennis McClure, AD/CVD Operations, Office VIII, Enforcement and Compliance, International Trade Administration, U.S. Department of Commerce, 1401 Constitution Avenue NW, Washington, DC 20203; telephone: (202) 482-5973.

SUPPLEMENTARY INFORMATION:

Background

On June 11, 2025, Commerce published in the Federal Register, Certain Alkyl Phosphate Esters from the People's Republic of China: Antidumping and Countervailing Duty Orders.¹ In that notice, we incorrectly stated that the date for the end of provisional measures in the less-than-fair-value (LTFV) investigation was June 2, 2025, rather than June 1, 2025.

¹ See Certain Alkyl Phosphate Esters from the People's Republic of China: Antidumping and Countervailing Duty Orders, 90 FR 24579 (June 11, 2025).

Correction

In the Federal Register of June 11, 2025, in FR Doc 2025-10630 on page 24581, in the first column, in the second paragraph under the heading “Provisional Measures—AD,” correct the first two sentences to read as follows:

The provisional measures period, beginning on the date of publication of the LTFV Preliminary Determination,{²} ended on June 1, 2025. Therefore, in accordance with section 733(d) of the Act and our practice,³ Commerce will instruct CBP to terminate the suspension of liquidation and to liquidate, without regard to antidumping duties, unliquidated entries of alkyl phosphate esters from China entered, or withdrawn from warehouse, for consumption after June 1, 2025, the final day on which the provisional measures were in effect, until and through the day preceding the date of publication of the ITC's final affirmative injury determination in the Federal Register.

² See Certain Alkyl Phosphate Esters from the People's Republic of China: Preliminary Affirmative Determination of Sales at Less Than Fair Value, Postponement of Final Determination and Extension of Provisional Measures, 89 FR 96223 (December 4, 2024) (LTFV Preliminary Determination).

³ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Notification to Interested Parties

This notice is issued and published in accordance with section 516A(c) and (e) and 777(i)(1) of the Tariff Act of 1930, as amended.

Dated: June 20, 2025.
Christopher Abbott,
Deputy Assistant Secretary for Policy and Negotiations, performing the non-exclusive functions and duties of the Assistant Secretary for Enforcement and Compliance.

[FR Doc. 2025-11706 Filed 6-24-25; 8:45 am]

BILLING CODE 3510-DS-P